DEPARTMENT OF COMMERCE

Bureau of Economic Analysis

RIN 0691-XC105

Request for Comments on Developing State-Level Statistics for the Outdoor Recreation Satellite Account

AGENCY: Bureau of Economic Analysis, Department of Commerce.

ACTION: Request for comments.

SUMMARY: The Bureau of Economic Analysis (BEA) is soliciting comments from the public about new prototype statistics on the economic activity generated by outdoor recreation in each U.S. state and the District of Columbia. Following the public comment period, BEA will evaluate feedback, finalize the methodology and related materials, and begin publishing this data series annually in the Outdoor Recreation Satellite Account (ORSA).

DATES: Comments must be received no later than March 31, 2020.

ADDRESSES: You may submit written comments to Christian Awuku-Budu, Chief, Regional Research and Methodology Branch, Bureau of Economic Analysis, Department of Commerce, 4600 Silver Hill Road (BE-61), or via email at OutdoorRecreation@bea.gov. Comments sent by any other method or after March 31, 2020, may not be considered. All comments are a part of the public record.

FOR FURTHER INFORMATION CONTACT: Christian Awuku-Budu, Chief, Regional Research and Methodology Branch, Bureau of Economic Analysis, Department of Commerce, 4600 Silver Hill Road (BE-61), Washington, DC 20233; email Christian.Awuku-Budu@bea.gov; or phone (301) 278-9235.

SUPPLEMENTARY INFORMATION: Pursuant to the requirements of the Outdoor Recreation Jobs and Economic Impact Act of 2016, Public Law 114-249, the Bureau of Economic Analysis (BEA) developed the Outdoor Recreation Satellite Account (ORSA). The ORSA measures the size of the U.S. outdoor recreation economy and its link to the broader national economy. Like other BEA accounts, the ORSA incorporates a variety of private and public data sources to create comprehensive measures of the spending and production activities that are the focus of the account. BEA produced the first, national prototype ORSA statistics on February 14, 2018, and released updated national statistics on September 20, 2018. After an additional year of development, BEA released state-level prototype statistics on September 20, 2019.

The state-level prototype statistics are an extension of the national industry ORSA statistics. State ORSA statistics isolate the economic activity associated with outdoor recreation spending and production in a state's economy. The concepts, definitions, and methodology used to produce state-level prototype statistics are consistent with the national industry concepts, definitions, and methodology. However, the additional geographic detail introduces added complexity to the estimation methodology. ORSA spending and production measures must be allocated to the correct geographic region by place of production, not by residence of consumer. In the state-level statistics, outdoor recreation activity is allocated as follows:

• The value of manufactured goods is assigned to the state where they are produced, even if the goods are not ultimately used in that state.

• The value of services is assigned to the location where they are consumed.

• The value of production of imported goods is excluded from ORSA measures, but the value of the services of retailers selling imported goods is included and assigned to the location of the sale.

BEA is seeking feedback on the prototype statistics and will continue to refine its methodology and presentation before official state ORSA statistics are released in the fall of 2020.

BEA invites comments from the public, private industry, state and local governments, non-profit organizations, and other interested parties to assist in improving the prototype statistics' quality, reliability, and usefulness. In particular, BEA is interested in feedback regarding the following:

1. What are some useful applications of state ORSA statistics?

2. BEA plans to release the state ORSA statistics annually in September. Will the statistics be useful if released on this schedule? What time of year should the release be scheduled to maximize the usefulness of the statistics?

3. Are the prototype statistics consistent with the data and information about outdoor recreation available from other sources? If not, what are some differences?

4. Are the methodology documents available at bea.gov helpful in understanding the process followed to create the state-level prototype ORSA statistics? Are there ways the methodology could be improved?

5. Are there additional source data that could be used to generate and corroborate these statistics beyond those described in the methodology documents available at bea.gov?

Dated: October 7, 2019.
Christian Awuku-Budu,
Chief, Regional Research and Methodology Branch, Bureau of Economic Analysis.

[FR Doc. 2019-23677 Filed 10-29-19; 8:45 am]

BILLING CODE 3510-06-P